INTERNATIONAL TRADE COMMISSION

[Investigations Nos. 731-TA-776-779 (Review)]

Certain Preserved Mushrooms From Chile, China, India, and Indonesia

Determinations

On the basis of the record ¹ developed in these subject five-year reviews, the United States International Trade Commission (Commission) determines, pursuant to section 751(c) of the Tariff Act of 1930 (19 U.S.C. 1675(c)) (the Act), that revocation of the antidumping duty orders on certain preserved mushrooms from Chile, China, India, and Indonesia ² would be likely to lead to continuation or recurrence of material injury to an industry in the United States within a reasonably foreseeable time.

¹ The record is defined in sec. 207.2(f) of the Commission's Rules of Practice and Procedure (19 CFR 207.2(f)).

² Commissioner Daniel R. Pearson dissents with regard to Indonesia.

Background

The Commission instituted these reviews on November 3, 2003 (68 FR 62322), and determined on February 6, 2004, that it would conduct full reviews (69 FR 7793, February 19, 2004). Notice of the scheduling of the Commission's reviews and of a public hearing to be held in connection therewith was given by posting copies of the notice in the Office of the Secretary, U.S. International Trade Commission, Washington, DC, and by publishing the notice in the Federal Register on May 18, 2004 (69 FR 28156). The hearing was held in Washington, DC, on September 9, 2004, and all persons who requested the opportunity were permitted to appear in person or by counsel.

The Commission transmitted its determinations in these reviews to the Secretary of Commerce on October 28, 2004. The views of the Commission are contained in USITC Publication 3731 (October 2004), entitled Certain Preserved Mushrooms from Chile, China, India, and Indonesia: Investigations Nos. 731-TA-776-779 (Review).

Issued: October 26, 2004.
By order of the Commission.
Marilyn R. Abbott,
Secretary to the Commission.

[FR Doc. 04-24325 Filed 10-29-04; 8:45 am]

BILLING CODE 7020-02-P